DEPARTMENT OF EDUCATION

Extension of the Application Deadline Date; Applications for the Supplemental Support Under the American Rescue Plan (SSARP)

AGENCY: Office of Postsecondary Education, Department of Education.

ACTION: Notice; correction.

SUMMARY: On February 3, 2022, the Department of Education (Department) published in the Federal Register a notice inviting applications for the Supplemental Support under the American Rescue Plan (NIA), Assistance Listing Number (ALN) 84.425T. The NIA established a deadline date of April 4, 2022, for the transmittal of applications. This notice extends the deadline date for transmittal of applications until April 8, 2022.

DATES: Deadline for Transmittal of Applications: April 8, 2022.

FOR FURTHER INFORMATION CONTACT: Karen Epps, U.S. Department of Education, 400 Maryland Avenue SW, Room 2B133, Washington, DC 20202-6450. Telephone: (202) 377-3711. Email: HEERF@ed.gov.

If you use a telecommunications device for the deaf (TDD) or a text telephone (TTY), call the Federal Relay Service (FRS), toll free, at 1-800-877-8339.

SUPPLEMENTARY INFORMATION: On February 3, 2022, we published an NIA in the Federal Register (87 FR 6154) for the SSARP Program. The NIA established a deadline date of April 4, 2022, for the transmittal of applications. This notice extends the deadline date for transmittal of applications until April 8, 2022.

On April 4, 2022, the Department is transitioning from use of the Data Universal Numbering System (DUNS) to the Unique Entity Identifier (UEI). To avoid any conflicts with submitting applications during the transition period, and to allow applicants more time to prepare and submit their applications, we are extending the deadline date for transmittal of applications. Applicants that submit applications on or before the original deadline date of April 4, 2022, may resubmit their applications on or before the new application deadline date of April 8, 2022, but are not required to do so. If a new application is not submitted, the Department will use the application that was submitted before the original application deadline. If a new application is submitted, the Department will consider the last application successfully submitted and received by 11:59:59 p.m., Eastern Time, on April 8, 2022.

Note: All information in the NIA for this competition remains the same, except for the deadline for the transmittal of applications.

Program Authority: CRRSAA Section 314(a)(3) and ARP section 2003.

Accessible Format: On request to the program contact listed under FOR FURTHER INFORMATION CONTACT, individuals with disabilities can obtain this document, the NIA, and a copy of the application package in an accessible format. The Department will provide the requestor with an accessible format that may include Rich Text Format (RTF) or text format (TXT), a thumb drive, an MP3 file, braille, large print, audiotape, or compact disc or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Deputy Assistant Secretary for Higher Education Programs, Delegated the Authority to Perform the Functions and Duties of the Assistant Secretary, Office of Postsecondary Education.

[FR Doc. 2022-06847 Filed 3-30-22; 8:45 am]

BILLING CODE 4000-01-P